FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010979-054.

Title: Caribbean Shipowners Association.

Parties: CMA CGM, S.A.; Seaboard Marine, Ltd.; Seafreight Line, Ltd.; Tropical Shipping and Construction Company Limited; and Zim Integrated Shipping Services, Ltd.

Filing Party: Wayne R. Rohde, Esq.; Cozen O'Connor, 1627 I Street NW., Washington, DC 20006.

Synopsis: The amendment would add King Ocean Services Limited as a party to the agreement.

Agreement No.: 012204.

Title: ELJSA/Hanjin Shipping Slot Exchange Agreement.

Parties: Evergreen Line Joint Service Agreement and Hanjin Shipping.

Filing Party: Paul M. Keane, Esq.; Cichanowicz, Callan, Keane, Vengrow & Textor, LLP; 61 Broadway, Suite 3000, New York, NY 10006-2802

Synopsis: The agreement authorizes the parties to exchange space on each other's services in the trade between China, Taiwan, and Vietnam, on the one hand, and the U.S. West Coast, on the other hand.

Agreement No.: 012205.

Title: ELJSA/COSCON Slot Exchange Agreement.

Parties: Evergreen Line Joint Service Agreement and Cosco Container Lines Company Limited.

Filing Party: Paul M. Keane, Esq.; Cichanowicz, Callan, Keane, Vengrow & Textor, LLP; 61 Broadway, Suite 3000, New York, NY 10006-2802.

Synopsis: The agreement authorizes the parties to exchange space on each other's services in the trade between China, Hong Kong, and Taiwan on the one hand, and the U.S. West Coast, on the other hand.

Dated: April 12, 2013.
By Order of the Federal Maritime Commission.
Rachel E. Dickon,
Assistant Secretary.

[FR Doc. 2013-09091 Filed 4-17-13; 8:45 am]

BILLING CODE 6730-01-P